COMMITTEE FOR PURCHASE FROM PEOPLE WHO ARE BLIND OR SEVERELY DISABLED

Procurement List; Proposed Additions and Deletions

AGENCY: Committee for Purchase From People Who Are Blind or Severely Disabled.

ACTION: Proposed additions to and deletions from the procurement list.

SUMMARY: The Committee is proposing to add d service(s) to the Procurement List that will be furnished by nonprofit agencies employing persons who are blind or have other severe disabilities, and deletes product(s) and service(s) previously furnished by such agencies.

DATES: Comments must be received on or before: August 15, 2021.

ADDRESSES: Committee for Purchase From People Who Are Blind or Severely Disabled, 1401 S Clark Street, Suite 715, Arlington, Virginia 22202-4149.

FOR FURTHER INFORMATION CONTACT: For further information or to submit comments contact: Michael R. Jurkowski, Telephone: (703) 785-6404, or email CMTEFedReg@AbilityOne.gov.

SUPPLEMENTARY INFORMATION: This notice is published pursuant to 41 U.S.C. 8503 (a)(2) and 41 CFR 51-2.3. Its purpose is to provide interested persons an opportunity to submit comments on the proposed actions.

Additions

If the Committee approves the proposed additions, the entities of the Federal Government identified in this notice will be required to procure the product(s) and service(s) listed below from nonprofit agencies employing persons who are blind or have other severe disabilities.

The following service(s) are proposed for addition to the Procurement List for production by the nonprofit agencies listed:

Service(s)

Service Type: Furniture Design, Configuration and Installation

Mandatory for: U.S. Department of Commerce, U.S. Census Bureau, Suitland, MD and Bowie Computer Center, Bowie, MD

Designated Source of Supply: Industries for the Blind and Visually Impaired, Inc., West Allis, WI

Contracting Activity: U.S. Census Bureau, Dept of Commerce Census

Deletions

The following product(s) and service(s) are proposed for deletion from the Procurement List:

Product(s)

NSN(s)—Product Name(s):

8465-01-465-2124—MOLLE II Carrier Sleep System, Woodland Camouflage

8465-01-491-7508—MOLLE II Carrier Sleep System, Desert Camouflage

Designated Source of Supply: Alabama Industries for the Blind, Talladega, AL

Contracting Activity: DLA Troop Support, Philadelphia, PA

NSN(s)—Product Name(s):

7520-01-455-7237—Pen, Ballpoint, Stick Type, Recycled, Red Ink, Fine Point

Designated Source of Supply: West Texas Lighthouse for the Blind, San Angelo, TX

Contracting Activity: GSA/FAS Admin Svcs Acquisition BR(2, New York, NY

NSN(s)—Product Name(s):

4940-00-803-6444—Spray Kit, Self-Pressurized

Designated Source of Supply: The Lighthouse for the Blind, St. Louis, MO

Contracting Activity: DLA Land and Maritime, Columbus, OH

Service(s)

Service Type: Unclassified Technical Order & Decal Distribution

Mandatory for: Oklahoma City Air Logistics Center, Tinker AFB, OK

Designated Source of Supply: NewView Oklahoma, Inc., Oklahoma City, OK

Contracting Activity: Dept of the Air Force, FA7014 AFDW PK

Service Type: Classified Technical Order Distribution

Mandatory for: Tinker Air Force Base: Building 3, Door 57, Tinker AFB, OK

Designated Source of Supply: NewView Oklahoma, Inc., Oklahoma City, OK

Contracting Activity: Dept of the Air Force, FA7014 AFDW PK

Service Type: Peel and Stick Program Support

Mandatory for: U.S. Coast Guard-Wide, 1750 Claiborne Avenue, Shreveport, LA

Designated Source of Supply: Louisiana Association for the Blind, Shreveport, LA

Contracting Activity: U.S. Coast Guard, U.S. Coast Guard

Service Type: Storage/Distribution of Uniform Accessories

Mandatory for: Defense Supply Center Philadelphia, PA

Designated Source of Supply: Travis Association for the Blind, Austin, TX

Contracting Activity: Defense Logistics Agency, DLA Troop Support

Service Type: Provision of Customized Recognition and& Award Program

Designated Source of Supply: The Lighthouse for the Blind, Inc. (Seattle Lighthouse), Seattle, WA

Contracting Activity: General Services Administration, FPDS Agency Coordinator

Service Type: Management of State Department Mobile Security

Mandatory for: Department of State, Office of Mobile Security Deployments, Dunn Loring, VA, 2216 Gallows Road, Dunn Loring, VA

Designated Source of Supply: Virginia Industries for the Blind, Charlottesville, VA

Contracting Activity: STATE, Department of, Acquisitions—AQM Momentum

Service Type: Administrative/General Support Services

Mandatory for: U.S. Customs Service, Gulf CMC, 423 Canal Street, New Orleans, LA

Designated Source of Supply: The Lighthouse for the Blind in New Orleans, Inc., New Orleans, LA

Contracting Activity: Treasury, Department of the, Dept of Treas

Service Type: Administrative/General Support Services

Mandatory for: GSA, Southwest Supply Center: 819 Taylor Street, Fort Worth, TX

Designated Source of Supply: Dallas Lighthouse for the Blind, Inc., Dallas, TX

Contracting Activity: General Services Administration, FPDS Agency Coordinator

Service Type: Facilities Maintenance Services

Mandatory for: DISA, JITC, 3341 Strauss Avenue, Building 900, Indian Head, MD

Designated Source of Supply: Beacon Group, Inc., Tucson, AZ

Contracting Activity: Defense Information Systems Agency (DISA), IT Contracting Division—PL83

Service Type: Facilities Maintenance Services

Mandatory for: DISA, JITC, 4465 Indian Head Highway, Ely Building, Indian Head, MD

Designated Source of Supply: Beacon Group, Inc., Tucson, AZ

Contracting Activity: Defense Information Systems Agency (DISA), IT Contracting Division—PL83

Service Type: Facilities Maintenance Services

Mandatory for: DISA, JITC, 6910 Cooper Avenue, Fort Meade, MD

Designated Source of Supply: Beacon Group, Inc., Tucson, AZ

Contracting Activity: Defense Information Systems Agency (DISA), IT Contracting Division—PL83

Service Type: Facilities Maintenance Services

Mandatory for: DISA, JITC, 3341 Strauss Avenue, Building 900, Indian Head, MD

Designated Source of Supply: Didlake, Inc., Manassas, VA

Contracting Activity: Defense Information Systems Agency (DISA), DITCO-FT HUACHUCA PL65

Service Type: Facilities Maintenance Services

Mandatory for: DISA, JITC, 4465 Indian Head Highway, Ely Building, Indian Head, MD

Designated Source of Supply: Didlake, Inc., Manassas, VA

Contracting Activity: Defense Information Systems Agency (DISA), DITCO-FT HUACHUCA PL65

Service Type: Facilities Maintenance Services

Mandatory for: DISA, JITC, 6910 Cooper Avenue, Fort Meade, MD

Designated Source of Supply: Didlake, Inc., Manassas, VA

Contracting Activity: Defense Information Systems Agency (DISA), DITCO-FT HUACHUCA PL65

Service Type: Laundry Service

Mandatory for: U.S. Air Force, Wright-Patterson Air Force Base Medical Center, Wright-Patterson AFB, OH, 4881 Sugar Maple Drive, Wright-Patterson AFB, OH

Designated Source of Supply: Greene, Inc., Xenia, OH

Contracting Activity: Dept of the Air Force, FA8601 AFLCMC PZIO

Michael R. Jurkowski,
Deputy Director, Business Operations.

[FR Doc. 2021-15142 Filed 7-15-21; 8:45 am]

BILLING CODE 6353-01-P